DEPARTMENT OF TRANSPORTATION

Federal Aviation Administration

14 CFR Part 39

[Docket No. 2000-NM-358-AD; Amendment 39-12521; AD 2001-24-05]

RIN 2120-AA64

Airworthiness Directives; Airbus Model A319, A320, and A321 Series Airplanes

AGENCY: Federal Aviation Administration, DOT.

ACTION: Final rule.

SUMMARY: This amendment supersedes an existing airworthiness directive (AD), applicable to certain Airbus Model A320 series airplanes, that currently requires modification of the autopilot mode engagement/disengagement lever of the rudder artificial feel unit. This amendment requires a different modification of the lever. This amendment also revises the applicability to include Airbus Model A319 and A321 series airplanes, as well as all Model A320 series airplanes. This amendment is prompted by issuance of mandatory continuing airworthiness information by a foreign civil airworthiness authority. The actions specified by this AD are intended to prevent reduced controllability of the airplane due to the failure of the rudder artificial feel unit to disengage properly from autopilot mode during approach and landing.

DATES: Effective January 4, 2002.

The incorporation by reference of certain publications listed in the regulations is approved by the Director of the Federal Register as of January 4, 2002.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tim Dulin, Aerospace Engineer, International Branch, ANM-116, FAA, Transport Airplane Directorate, 1601 Lind Avenue, SW., Renton, Washington 98055-4056; telephone: (425) 227-2141; fax (425) 227-1149.

SUPPLEMENTARY INFORMATION: A proposal to amend part 39 of the Federal Aviation Regulations (14 CFR part 39) by superseding AD 99-21-29, amendment 39-11375 (64 FR 56158, October 18, 1999), which is applicable to certain Airbus Model A320 series airplanes, was published in the Federal Register on March 29, 2001 (66 FR 17125). The action proposed to require a new modification of the autopilot mode engagement/disengagement lever of the rudder artificial feel unit. The action also proposed to revise the applicability of the existing AD to include Airbus Model A319 and A321 series airplanes, as well as all Model A320 series airplanes.

Comments

Interested persons have been afforded an opportunity to participate in the making of this amendment. Due consideration has been given to the comments received.

Request To Refer to Revised Service Information

Two commenters request that the FAA revise paragraph (a) of the proposed AD to refer to Airbus Service Bulletin A320-27-1130, Revision 01, dated November 23, 2000, instead of the original issue of that service bulletin, which the proposed AD specifies as the appropriate source of service information for the proposed modification. One of the commenters explains that Airbus issued Revision 01 of the service bulletin in response to the commenter's suggestions for improvements and corrections that could be made to the work instructions, as well as to revise the effectivity. The other commenter also asks that, in addition to referring to Revision 01, the proposed AD be revised to refer to “any subsequently approved revision(s)” of the service bulletin as appropriate sources of service information.

The FAA partially concurs with the commenters' requests. Since the issuance of the proposed rule, Airbus has issued Revision 01 of the service bulletin, as well as Revision 02 of the service bulletin, dated September 6, 2001. We have determined that accomplishment of the modification required by this AD according to either the original issue, Revision 01, or Revision 02 of the service bulletin is acceptable. Paragraph (a) has been revised to refer to the most recent issue, Revision 02 of the service bulletin, and Note 2 has been added to this AD (and subsequent notes reordered) to state that modification prior to the effective date of this AD according to the original issue or Revision 01 of the service bulletin is acceptable for compliance with paragraph (a) of this AD.

With regard to the second commenter's request to refer to “any subsequently approved revision(s)” of the service bulletin, we do not concur. An AD may only refer to service documents that are submitted and approved by the Office of the Federal Register (OFR) for “incorporation by reference.” In order for operators to use later revisions of the referenced document (issued after the publication of the AD), either the AD must be revised to refer to the specific later revisions, or operators must request approval for the use of them as an alternative method of compliance with this AD under the provisions of paragraph (c) of this AD. No further change to the AD is necessary in this regard.

Request To Revise Compliance Time

One commenter requests that the FAA revise the compliance time for the proposed modification from 18 months to 24 months after the effective date of the AD. The commenter states that this change would allow operators to accomplish the modification during a regularly scheduled maintenance visit such as a “C” check, which would reduce the impact of the proposed modification on line operations. The commenter also states that an extension of the compliance time would make the compliance time for the proposed AD coincide with those of other ADs and would compensate for increased lead-time necessary for delivery of the kit needed to accomplish the proposed modification.

The FAA does not concur. In developing the compliance time for the modification in this AD, the FAA considered not only the degree of urgency associated with addressing the subject unsafe condition, but also the time necessary to accomplish the modification (estimated at 9 work hours per airplane), and the practical aspect of installing the required modification within an interval of time that parallels normal scheduled maintenance for the majority of affected operators. The FAA finds that 18 months represents an appropriate interval of time allowable wherein the modification can be accomplished during scheduled maintenance for the majority of affected operators, and an acceptable level of safety can be maintained. With regard to the lead-time needed for obtaining the necessary kits, we find that operators will have ample time to order and receive the kits before the compliance threshold. No change to the AD is necessary in this regard.

Request To Differentiate Between Assembly and Subassembly Part Numbers

One commenter requests that the FAA revise paragraph (b) of the proposed AD to differentiate between assembly and subassembly part numbers. The commenter notes that paragraph (b) of the proposed AD contains both artificial feel unit assembly and artificial feel unit subassembly part numbers according to the Airbus Illustrated Parts Catalog.

The FAA does not concur. All parts listed in paragraph (b) are prohibited from being installed on an airplane after the effective date of this AD. In addition, the referenced service bulletin clearly differentiates between artificial feel units with a solenoid and those without a solenoid. No change to the AD is necessary in this regard.

Conclusion

After careful review of the available data, including the comments noted above, the FAA has determined that air safety and the public interest require the adoption of the rule with the changes previously described. The FAA has determined that these changes will neither increase the economic burden on any operator nor increase the scope of the AD.

Cost Impact

There are approximately 291 Model A319, A320, and A321 series airplanes of U.S. registry that will be affected by this AD.

The new modification that is required by this AD will take approximately 9 work hours per airplane to accomplish, at an average labor rate of $60 per work hour. Required parts will be provided by the manufacturer at no cost. Based on these figures, the cost impact of the requirements of this AD on U.S. operators is estimated to be $157,140, or $540 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11375 (64 FR 56158, October 18, 1999), and by adding a new airworthiness directive (AD), amendment 39-12521, to read as follows:

2001-24-05 Airbus Industrie: Amendment 39-12521. Docket 2000-NM-358-AD. Supersedes AD 99-21-29, Amendment 39-11375.

Applicability: Model A319, A320, and A321 series airplanes, certificated in any category, on which Airbus Modification 28909 was not accomplished during production.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent reduced controllability of the airplane, due to the failure of the rudder artificial feel unit to disengage properly from autopilot mode during approach and landing, accomplish the following:

Modification

(a) Within 18 months after the effective date of this AD, modify the autopilot mode engagement/disengagement lever of the rudder artificial feel unit, in accordance with paragraphs 3.B. and 3.C. of the Accomplishment Instructions of Airbus Service Bulletin A320-27-1130, Revision 02, dated September 6, 2001.

Note 2: Modification of the autopilot mode engagement/disengagement lever of the rudder artificial feel unit prior to the effective date of this AD in accordance with Airbus Service Bulletin A320-27-1130, dated March 14, 2000, or Revision 01, dated November 23, 2000, is acceptable for compliance with paragraph (a) of this AD.

Spares

(b) As of the effective date of this AD, no person may install a rudder artificial feel unit having any of the following part numbers on any airplane:

D2727040000600

D2727040000651

D2727040000695

D2727040000696

D2727040000800

D2727040000851

D2727040001000

D2727040001051

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the Manager, International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Airbus Service Bulletin A320-27-1130, Revision 02, dated September 6, 2001. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 2000-372-151(B), dated September 6, 2000.

Effective Date

(f) This amendment becomes effective on January 4, 2002.

Issued in Renton, Washington, on November 19, 2001.
Kalene C. Yanamura,
Acting Manager, Transport Airplane Directorate, Aircraft Certification Service.

[FR Doc. 01-29340 Filed 11-29-01; 8:45 am]

BILLING CODE 4910-13-P